DEPARTMENT OF JUSTICE

Notice of Lodging of Consent Decree Pursuant to the Clean Air Act, Clean Water Act and Emergency Planning and Community Right-to-Know Act

Notice is hereby given that a consent decree in United States v. ALLTEL Corporation, Civil Action No. 4:03CV-0792 WRW (E.D. Ark.) was lodged with the court on October 2, 2003.

The proposed decree resolves certain claims of the United States against ALLTEL Corporation under the Clean Air Act, 42 U.S.C. 7401 et seq., the Federal Clean Water Act, 22 U.S.C. 1251 et seq. and the Emergency Planning and Community Right-to-Know Act, 42 U.S.C. 11001 et seq. for civil penalties and injunctive relief to redress violations occurring at numerous of ALLTEL's facilities located across the United States. Under the decree, ALLTEL is required to pay a civil penalty of $1,058,000 and is subjected to injunctive relief designed to ensure future compliance.

The Department of Justice will receive, for a period of thirty (30) days from the date of this publication, comments relating to the proposed consent decree. Comments should be addressed to the Assistant Attorney General for the Environment and Natural Resources Division, Department of Justice, Washington, DC 20530, and should refer to United States v. ALLTEL Corporation, Civil Action No. 4:03CV-0792 WRW (E.D. Ark.), DOJ Ref. #90-5-1-1-07300.

The proposed consent decree may be examined at the office of the United States attorney for the Eastern District of Arkansas, 425 West Capital Avenue, Suite 500, Little Rock, Arkansas 72201. During the public comment period, the Consent Decree, may also be examined on the following Department of Justice Web site, http://www.usdoj.gov.enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy of the Consent Decree from the Consent Decree Library, please enclose a check in the amount of $6.00 (25 cents per page reproduction cost) payable to the U.S. Treasury. Copies of the appendices to the Consent Decree are also available at an additional charge of 25 cents per page.

Robert Brook,
Assistant Chief, Environmental Enforcement Section, Environment and Natural Resources Division.

[FR Doc. 03-26671 Filed 10-21-03; 8:45 am]

BILLING CODE 4410-BE-M